DEPARTMENT OF AGRICULTURE

Forest Service

Proposed Recreation Fee Site

AGENCY: Forest Service, USDA.

ACTION: Notice.

SUMMARY: The Angeles National Forest is proposing to establish a recreation fee site. Proposed recreation fees collected at the proposed recreation fee site would be used for operation, maintenance, and improvement of the site. An analysis of nearby recreation fee sites with similar amenities shows the proposed recreation fees that would be charged at the new recreation fee site are reasonable and typical of similar recreation fee sites in the area.

DATES: If approved, the proposed recreation fees would be established no earlier than six months following the publication of this notice in the Federal Register.

ADDRESSES: Angeles National Forest, Attention: Recreation Fees, 701 North Santa Anita Avenue, Arcadia, CA 91006.

FOR FURTHER INFORMATION CONTACT: Jeremey Sugden, Recreation Program Manager, (626) 574-5274 or jeremey.sugden@usda.gov.

SUPPLEMENTARY INFORMATION: The Federal Lands Recreation Enhancement Act (16 U.S.C. 6803(b)) requires the Forest Service to publish a six-month advance notice in the Federal Register of establishment of proposed recreation fee sites. In accordance with Forest Service Handbook 2309.13, Chapter 30, the Forest Service will publish the proposed recreation fee site and proposed recreation fees in local newspapers and other local publications for public comment. Most of the proposed recreation fees would be spent where they are collected to enhance the visitor experience at the proposed recreation fee site.

A proposed expanded amenity recreation fee of $80 per night for groups of up to 36 people and $100 per night for groups of up to 45 people would be charged for Lightning Point Group Campground.

Expenditures of recreation fees collected at the proposed recreation fee site would enhance recreation opportunities, improve customer service, and address maintenance needs. t Reservations for the campground could be made online at www.recreation.gov or by calling (877) 444-6777. Reservations would cost $8.00 per reservation.

Dated: July 26, 2024.
Jacqueline Emanuel,
Associate Deputy Chief, National Forest System.

[FR Doc. 2024-16943 Filed 7-31-24; 8:45 am]

BILLING CODE 3411-15-P